DEPARTMENT OF AGRICULTURE

Natural Resources Conservation Service

Finding of No Significant Impact for Upper Salt Creek 10-A Rehabilitation, Lancaster County, NE

Introduction

The Upper Salt Creek 10-A Rehabilitation is a federally assisted action authorized for planning under Pub. L. 83-566, the Watershed Protection and Flood Prevention Act as amended by Section 313 of Pub. L. 106-472 The Small Watershed Rehabilitation Amendments of 2000. An environmental assessment was undertaken in conjunction with the development of the watershed plan. This assessment was conducted in consultation with local, State, and Federal agencies as well as with interested organizations and individuals. Data developed during the assessment are available for public review at the following location: U.S. Department of Agriculture, Natural Resources Conservation Service, Federal Building, Room 152, 100 Centennial Mall North, Lincoln, Nebraska 68508-3866.

Recommended Action

Proposed is the rehabilitation of one floodwater retarding structure, Upper Salt Creek 10-A on an unnamed tributary of Hickman Branch. The Upper Salt Creek 10-A structure controls the drainage of 2,052 acres.

Effect of Recommended Action

Rehabilitation of the structure will meet state dam safety requirements and prolong the life of the structure and pool for 100 years. The permanent pool will not change in size but the temporary flood pool will increase from 86 acres to 117 acres. Ten acres will be converted from cropland to a grassed auxiliary spillway.

Sediment delivery to downstream areas will continue to be held back. Recreation will still be available on and around the pool and structure.

Significant cultural resources identified during implementation will be avoided or otherwise preserved in place to the fullest practical extent. If significant cultural resources cannot be avoided or preserved, pertinent information will be recovered before construction. If there is a significant cultural resource discovery during construction, appropriate notice will be made by NRCS to the State Historic Preservation Officer and the National Park Service. Consultation and coordination have been and will continue to be used to ensure the provisions of Section 106 Pub. L. 89-665 have been met and to include provisions of Pub. L. 89-523, as amended by Pub. L. 93-291. NRCS will take action as prescribed in NRCS GM 420, Part 401, to protect or recover any significant cultural resources discovered during construction.

No threatened or endangered species in the watershed will be adversely affected by the project.

No significant adverse environmental impacts will result from installations except for temporary draining of the pool and minor inconveniences to local residents during construction.

Alternatives

Four alternatives were analyzed in this plan.

No Action alternative, the structure is breached by the sponsor in approximately four years. The structure will continue to be out of compliance with state dam safety regulations until it is breached. Flood protection provided by the structure would end and increased flooding and associated problems would increase. Recreational opportunities provided by the structure, pool and surrounding area which are owned by the state Game and Parks would be virtually eliminated.

Decommissioning alternative, the structure would be removed and would therefore not be out of compliance with the state dam safety regulations. Flood protection provided by the structure would end and increased flooding and associated problems would increase. Recreational opportunities provided by the structure, pool and surrounding area which are owned by the state Game and Parks would be virtually eliminated.

Home Relocation alternative, the structure would be rehabilitated to current Low Hazard Criteria and the downstream homes in the breach area would be removed. The structure would then be in compliance with state dam safety regulations and flood protection and recreational opportunities would continue to be provided by the structure, pool and surrounding area.

Rehabilitation to High Hazard Criteria alternative, the structure would be rehabilitated to current High Hazard Criteria and would be brought into compliance with state dam safety regulations for high hazard structures. Flood protection and recreational opportunities would continue to be provided by the structure, pool and surrounding area.

Consultation-Public Participation

The Lower Platte South Natural Resources District submitted an application for assistance January 2001. The request was a result of local concern and interest in addressing dam safety and flood protection.

A scoping meeting was held June 6, 2002 involving interdisciplinary efforts. Nebraska Game and Parks Commission, Lancaster County Roads, Lower Platte South Natural Resources District, Nebraska Department of Natural Resources, Resource Conservation and Development, University of Nebraska Extension Service, and local residents were in attendance.

The environmental assessment was transmitted to all participating and interested agencies, groups, and individuals for review and comment in July 2003. Public meetings were held throughout the planning process to keep all interested parties informed of the study progress and to obtain public input to the plan and environmental evaluation.

Agency consultation and public participation to date have shown no unresolved conflicts with the implementation of the selected plan.

Conclusion

The Environmental Assessment summarized above indicates that this Federal action will not cause significant local, regional or national impacts on the environment. Therefore, based on the above findings, I have determined that an environmental impact statement for the Upper Salt Creek 10-A Rehabilitation is not required.

Dated:
Stephen K. Chick,
State Conservationist.

[FR Doc. 03-25857 Filed 10-10-03; 8:45 am]

BILLING CODE 3410-16-P